DEPARTMENT OF DEFENSE

Office of the Secretary

Renewal of Department of Defense Federal Advisory Committees

AGENCY: Department of Defense.

ACTION: Renewal of Federal Advisory Committee.

SUMMARY: Under the provisions of the Federal Advisory Committee Act of 1972, (5 U.S.C. Appendix, as amended), the Government in the Sunshine Act of 1976 (5 U.S.C. 552b, as amended), and 41 CFR 102-3.65, the Department of Defense gives notice that it is renewing the charter for the Veterans' Advisory Board on Dose Reconstruction (hereafter referred to as the Board).

The Board is a non-discretionary federal advisory committee established by Section 601(c) of Title VI of Public Law 108-183. The Board provides review and oversight of the Radiation Dose Reconstruction Program, and makes such recommendations on modifications in the mission or procedures of the Radiation Dose Reconstruction Program as it considers appropriate as a result of the audits conducted under the authority of Section 601(c)(3)(A) of Title VI of Public Law 108-183.

Specifically, the Board shall—

1. Conduct periodic, random audits of dose reconstructions under the Radiation Dose Reconstruction Program and of decisions by the Department of Veterans Affairs on claims for service connection of radiogenic diseases;

2. Assist the Department of Veterans Affairs and the Defense Threat Reduction Agency in communicating to veterans information on the mission, procedures, and evidentiary requirements of the Radiation Dose Reconstruction Program;

3. Carry out such other activities with respect to the review and oversight of the Radiation Dose Reconstruction Program as the Secretary of Defense and Secretary of Veterans Affairs shall jointly specify; and

4. Make recommendations on modifications to the mission and procedures of the Dose Reconstruction Program as the Board considers appropriate as a result of the audits.

The Under Secretary of Defense (Acquisition, Technology & Logistics) or designee, as well as, the Department of Veterans Affairs may act upon the Board's advice and recommendations.

The Board Membership shall be composed of—

1. At least one expert in historical dose reconstruction of the type conducted under the Radiation Dose Reconstruction Program;

2. At least one expert in radiation health matters;

3. At least one expert in risk communications matters;

4. A representative of the Defense Threat Reduction Agency and a representative of the Department of Veterans Affairs; and

5. At least three veterans, including at least one veteran who is a member of an atomic veterans group.

Board Members appointed by the Secretary of Defense, who are not full-time federal officers or employees, shall be appointed as experts and consultants under the authority of 5 U.S.C. 3109. These individuals, serving as Special Government Employees, shall be appointed on an annual basis by the Secretary of Defense, and shall with the exception of travel and per diem for official travel, shall serve without compensation, unless otherwise authorized by the appointing authority.

The Chairperson of the Board shall be selected by the sponsors, the Department of Veterans Affairs and the Defense Threat Reduction Agency.

The Board shall be authorized to establish subcommittees, as necessary and consistent with its mission, and these subcommittees or working groups shall operate under the provisions of the Federal Advisory Committee Act of 1972, the Government in the Sunshine Act of 1976, and other appropriate federal regulations.

Such subcommittees or workgroups shall not work independently of the chartered Veterans' Advisory Board on Dose Reconstruction, and shall report all their recommendations and advice to the Board for full deliberation and discussion. Subcommittees or workgroups have no authority to make decisions on behalf of the chartered Board nor can they report directly to the Department of Defense or any federal officers or employees who are not Board members.

FOR FURTHER INFORMATION CONTACT: Contact Jim Freeman, Deputy Committee Management Officer for the Department of Defense, 703-601-6128.

SUPPLEMENTARY INFORMATION: The Board shall meet at the call of the Board's Designated Federal Officer, in consultation with the Board's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Veterans' Advisory Board on Dose Reconstruction membership about the Board's mission and functions. Written statements may be submitted at any time or in response to the stated agenda of planned meeting of the Veterans' Advisory Board on Dose Reconstruction.

All written statements shall be submitted to the Designated Federal Officer for the Veterans' Advisory Board on Dose Reconstruction, and this individual will ensure that the written statements are provided to the membership for their consideration. Contact information for the Veterans' Advisory Board on Dose Reconstruction's Designated Federal Officer can be obtained from the GSA's FACA Database— https://www.fido.gov/facadatabase/public.asp.

The Designated Federal Officer, pursuant to 41 CFR 102-3.150, will announce planned meetings of the Veterans' Advisory Board on Dose Reconstruction. The Designated Federal Officer, at that time, may provide additional guidance on the submission of written statements that are in response to the stated agenda for the planned meeting in question.

Dated: November 19, 2008.
Patricia L. Toppings,
OSD Federal Register Liaison Officer, Department of Defense.

[FR Doc. E8-28148 Filed 11-25-08; 8:45 am]

BILLING CODE 5001-06-P